DEPARTMENT OF THE INTERIOR

Fish and Wildlife Service

Availability of a Draft Combined Environmental Assessment and Habitat Conservation Plan, Preliminary Finding of No Significant Impact, and Notice of Receipt of an Application for an Incidental Take Permit by Plum Creek Timber Company for Forest Management and Timber Harvest on Plum Creek Lands in Arkansas and Louisiana

AGENCY: Fish and Wildlife Service, Interior.

ACTION: Notice.

Plum Creek Timber Company, Inc. and its associated companies (Plum Creek or Applicant) seeks an incidental take permit (ITP) from the Fish and Wildlife Service (Service) pursuant to section 10(a)(1)(B) of the Endangered Species Act of 1973, as amended (Act). The proposed take would be incidental to otherwise lawful activities, including forest management and related activities on private land owned by Plum Creek. The proposed action would involve approval of the Applicant's Habitat Conservation Plan (HCP), as required by section 10(a)(2)(B) of the Act, to minimize and mitigate for the incidental take of the Federally endangered red-cockaded woodpecker (Picoides borealis). The subject permit would authorize take of RCWs on approximately 261,000 acres of the Applicant's lands in Union County, Arkansas, and Union and Ouachita Parishes, Louisiana. The minimization and mitigation measures outlined in the Applicant's HCP to address effects of the proposed action to protected species are described further in the SUPPLEMENTARY INFORMATION section below.

A more detailed description of the mitigation and minimization measures to address the effects of the Project to the red-cockaded woodpecker is provided in the Applicant's HCP, the Service's draft Environmental Assessment (EA), and in the SUPPLEMENTARY INFORMATION section below.

The Service announces the availability of a combined draft Environmental Assessment (EA) and Habitat Conservation Plan/Application for Incidental Take. The permit application incorporates the Applicant's HCP as the proposed action for evaluation in the Service's EA. Copies of the draft EA and HCP may be obtained by making a request to the Regional Office (see ADDRESSES). Requests must be in writing to be processed. This notice also advises the public that the Service has made a preliminary determination that issuing the ITP is not a major Federal action significantly affecting the quality of the human environment within the meaning of Section 102(2)(C) of the National Environmental Policy Act of 1969, as amended (NEPA). The preliminary Finding of No Significant Impact (FONSI) is based on information contained in the draft EA and HCP. The final determination will be made no sooner than 60 days from the date of this notice. This notice is provided pursuant to section 10 of the Act and NEPA regulations (40 CFR 1506.6).

The Service specifically requests information, views, and opinions from the public via this Notice on the federal action, including the identification of any other aspects of the human environment not already identified in the Service's draft EA. Further, the Service specifically solicits information regarding the adequacy of the HCP as measured against the Service's ITP issuance criteria found in 50 CFR parts 13 and 17.

If you wish to comment, you may submit comments by any one of several methods. Please reference permit number TE034255-0 in such comments. You may mail comments to the Service's Regional Office (see ADDRESSES). You may also comment via the internet to “david_dell@fws.gov”. Please submit comments over the internet as an ASCII file avoiding the use of special characters and any form of encryption. Please also include your name and return address in your internet message. If you do not receive a confirmation from the Service that we have received your internet message, contact us directly at either telephone number listed below (see FURTHER INFORMATION). Finally, you may hand deliver comments to either Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not; however, consider anonymous comments. We will make all submissions from organizations or businesses, and from individuals identifying themselves as representatives or officials of organizations or businesses, available for public inspection in their entirety.

DATES: Written comments on the ITP application, draft EA, and HCP should be sent to the Service's Regional Office (see ADDRESSES) and should be received on or before June 18, 2001.

ADDRESSES: Persons wishing to review the application, HCP, and EA may obtain a copy by writing the Service's Southeast Regional Office, Atlanta, Georgia. Documents will also be available for public inspection by appointment during normal business hours at the Regional Office, 1875 Century Boulevard, Suite 200, Atlanta, Georgia 30345 (Attn: Endangered Species Permits), or Field Supervisor, U.S. Fish and Wildlife Service, Ecological Services Field Office, 646 Cajundome Boulevard, Suite 400, Lafayette, Louisiana 70506. Written data or comments concerning the application, or HCP should be submitted to the Regional Office. Please reference permit number TE034255-0 in requests for the documents discussed herein.

FOR FURTHER INFORMATION CONTACT: Mr. David Dell, Regional HCP Coordinator, (see ADDRESSES above), telephone: 404/679-7313, facsimile: 404/679-7081; or Ms. Deborah Fuller, Fish and Wildlife Biologist, Lafayette Field Office, Louisiana (see ADDRESSES above), telephone: 337/291-3100.

SUPPLEMENTARY INFORMATION: The red-cockaded woodpecker is a territorial, non-migratory species once common in the southern Coastal Plain from east Texas to Florida and north to Maryland, Missouri, and Kentucky. Red-cockaded woodpeckers roost and nest in cavities excavated in large, living pine trees 60 years old or older. The Red-cockaded woodpecker is a cooperative breeder that lives in family groups of one to nine birds, with each bird nesting in a separate cavity; the aggregate of cavity trees used by a group is called a cluster. Red-cockaded woodpeckers prefer mature longleaf pine forests, but also inhabit loblolly, pond, slash, shortleaf, and Virginia pine stands. Without periodic fire to control hardwoods, Red-cockaded woodpeckers abandon clusters as other cavity competitors and predators typical of hardwood habitats move in. The decline of the Red-cockaded woodpecker is due primarily to loss of the old-growth, fire-maintained southern pine ecosystem as a result of logging, fire suppression, and conversion to non-forest land uses.

Recovery activities for the Red-cockaded woodpecker are focused on Federal lands. Private lands are also important in the Service's recovery strategy to supplement habitat where the Federal land base is insufficient to support recovery, to establish and maintain connectivity with populations on public lands, and to provide a donor source of juvenile Red-cockaded woodpeckers for translocation into designated recovery populations. Red-cockaded woodpeckers on private lands have generally declined owing to the reluctance of landowners to manage their lands as Red-cockaded woodpecker habitat, given the Act's take restrictions on timber harvesting and development where the species is present. The Service considers that Red-cockaded woodpeckers geographically isolated on private lands will eventually cease to exist unless private landowners are encouraged to manage their lands for the species.

The Applicant, by implementing the HCP, proposes to sustain Red-cockaded woodpeckers on Plum Creek lands through the designation and management of a 3,069-acre Conservation Area (CA) in four sub-units on Plum Creek property. The geographic scope of the HCP is Plum Creek landholdings in Union County, Arkansas, and Union and Ouachita Parishes, Louisiana. Approximately 40 percent of those landholdings are located in Arkansas, and most of the Red-cockaded woodpeckers on Plum Creek lands are in Arkansas. Three CA sub-units are located in Union County, Arkansas, adjacent to Felsenthal National Wildlife Refuge (NWR), and one sub-unit is located in Ouachita Parish, Louisiana, adjacent to D'Arbonne NWR. The Applicant will manage the CA as high-quality Red-cockaded woodpecker habitat to support up to 30 Red-cockaded woodpecker groups over the 30-year ITP duration. Currently, there exist 15 active Red-cockaded woodpecker clusters in the CA and 11 active clusters outside the CA, for a total of 26 known active Red-cockaded woodpecker clusters on Plum Creek lands. The Applicant proposes to consolidate those clusters by translocating juvenile Red-cockaded woodpeckers into the CA to replace groups taken incidental to timber harvest outside the CA, and by intensively managing habitat within the CA to further increase the Red-cockaded woodpecker population there. Under the HCP, the Applicant proposes 22 conservation commitments addressing mitigation of incidental take (by population consolidation, habitat management, and demographic support within the CA), mitigation banking, monitoring, changed circumstances, adaptive management, and administration and training. The Applicant and the Service believe the biological goal of the HCP to consolidate a more stable Red-cockaded woodpecker population within the CA would benefit the species on Plum Creek lands, and on Felsenthal NWR and D'Arbonne NWR by providing demographic support.

The duration of the ITP is for 30 years and would authorize take of up to 11 Red-cockaded woodpecker groups outside the CA incidental to timber management activities, plus incidental take of any clusters in excess of conservation obligation within the CA. Maintenance of habitat and establishment of Red-cockaded woodpecker groups in excess of that required to mitigate for take under this ITP will provide the Applicant the ability to sell mitigation credits to third parties. Among the minimization and mitigation measures proposed by the Applicant are no take of Red-cockaded woodpeckers during the breeding season, consolidation of isolated groups to areas within the CA, and intensive management of the CA to provide current and potential Red-cockaded woodpecker habitat.

The Service evaluated the environmental consequences of three alternatives to the proposed action in the combined draft EA/HCP. The no-action alternative would likely result in the natural extirpation of all Red-cockaded woodpecker groups within 20 years because of habitat fragmentation, geographic isolation, and lack of intensive management (especially prescribed fire or other hardwood control actions). A second alternative involves the Applicant's implementation of the Service's “Draft Red-cockaded Woodpecker Procedures Manual for Private Lands” (Private Lands Manual), without creation of a Conservation Area. This would delay, but is not enough to prevent, the eventual extirpation of Red-cockaded woodpeckers on the Applicant's lands. This would occur because maintenance of habitat will retain woodpecker groups (unlike the no-action alternative), but those groups would not persist due to their small size (often comprising a single bird) and demographic isolation from potential mates in other groups. The third alternative to the proposed action involves mitigation efforts on lands recently sold by the Applicant to The Nature Conservancy (TNC) for eventual transfer to the Service as part of Upper Ouachita NWR. Mitigation on the TNC tract would result in a greater contribution to Red-cockaded woodpecker persistence in the affected environment than either the no-action alternative or the Private Lands Manual alternative, but less than the proposed alternative. Moreover, the applicant does not own the property, and once it is transferred to the Upper Ouachita NWR, the applicant would no longer retain the option of managing for excess woodpecker groups to sell as mitigation credits to third parties. The Applicant's HCP was developed in an adaptive management framework to allow changes in the program based on new scientific information including, but not limited to, biological needs and management actions proven to benefit the species or its habitat.

Under section 9 of the Act and its implementing regulations, “taking” of endangered and threatened wildlife is prohibited. However, the Service, under limited circumstances, may issue permits to take such wildlife if the taking is incidental to and not the purpose of otherwise lawful activities. The Applicant has prepared an HCP as required for the incidental take permit application.

As stated above, the Service has made a preliminary determination that the issuance of the ITP is not a major Federal action significantly affecting the quality of the human environment within the meaning of section 102(2)(C) of NEPA. This preliminary information may be revised due to public comment received in response to this notice and is based on information contained in the draft EA and HCP.

The Service will also evaluate whether the issuance of a section 10(a)(1)(B) ITP complies with section 7 of the Act by conducting an intra-Service section 7 consultation. The results of the biological opinion, in combination with the above findings, will be used in the final analysis to determine whether or not to issue the ITP.

Dated: March 26, 2001.
H. Dale Hall,
Acting Regional Director.

[FR Doc. 01-9454 Filed 4-16-01; 8:45 am]

BILLING CODE 4310-55-P